SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before June 14, 2004.

ADDRESSES: Send all comments regarding whether this information collection is necessary for the proper performance of the function of the agency, whether the burden estimates are accurate, and if there are ways to minimize the estimated burden and enhance the quality of the collection, to Veronica Johnson, Program Analyst, Office of Business Development, Small Business Administration, 409 3rd Street, SW., Suite 8800, Washington, DC 20416.

FOR FURTHER INFORMATION CONTACT: Veronica Johnson, Program Analyst, 202-619-0472 or Curtis B. Rich, Management Analyst, 202-205-7030.

SUPPLEMENTARY INFORMATION: Title: “BusinessLINC Program.”

Description of Respondents: Small Business Owners.

Form No: N/A.

Annual Responses: 81.

Annual Burden: 4,200.

ADDRESSES: Send all comments regarding whether this information collection is necessary for the proper performance of the function of the agency, whether the burden estimates are accurate, and if there are ways to minimize the estimated burden and enhance the quality of the collection, to Radwan Saade, Economist, Office of Advocacy, Small Business Administration, 409 3rd Street, SW., Suite 7800, Washington, DC 20416.

FOR FURTHER INFORMATION CONTACT: Radwan Saade, Economist, 202-205-6878 or Curtis B. Rich, Management Analyst, 202-205-7030.

SUPPLEMENTARY INFORMATION: Title: “Evaluation of State Efforts to Review and Alleviate State Regulatory Burdens on Small Businesses.”

Description of Respondents: The Office of Advocacy is surveying states to gain a better understanding of what states are doing to help small businesses overcome state regulatory burdens.

Form No: 2196.

Annual Responses: 130.

Annual Burden: 120.

Jacqueline White,
Chief, Administrative Information Branch.

[FR Doc. 04-8380 Filed 4-12-04; 8:45 am]

BILLING CODE 8025-01-P